DEPARTMENT OF THE INTERIOR

Bureau of Land Management

[NM-070-1610-DQ]

Notice of Availability of the Farmington Proposed Resource Management Plan and Final Environmental Impact Statement, Farmington Field Office, NM

AGENCY: Bureau of Land Management, Interior.

ACTION: Notice of availability of the Farmington Proposed Resource Management Plan (PRMP) and Final Environmental Impact Statement (FEIS).

SUMMARY: The Bureau of Land Management (BLM) announces the availability of the Farmington PRMP Revision and FEIS for the Farmington Field Office (FFO) and portions of the Albuquerque Field Office (AFO), New Mexico. This document identifies and analyzes land use planning options for managing approximately 2 million acres of public lands and just over 3 million acres of Federal mineral estate administered by the FFO and the San Juan Basin portion of the AFO in New Mexico. The planning area for the PRMP/FEIS includes all of San Juan County and portions of McKinley, Rio Arriba, and Sandoval Counties in northwest New Mexico. The PRMP revises and will replace the previous 1988 RMP.

DATES: The Farmington PRMP/FEIS will be available for a 30-day protest period in accordance with BLM's land use planning regulations (43 CFR 1610.5-2). These regulations state that any person who participated in the planning process and has an interest which may be adversely affected may protest. A protest may raise only those issues which were submitted for the record during the planning process. Instructions for filing of protests are described in the PRMP/FEIS and included in the Supplementary Information section of this notice.

FOR FURTHER INFORMATION, CONTACT: RMP Project Manager, Farmington Field Office, 1235 La Plata Highway, Suite A, Farmington, NM 87401-8754. Copies of the PRMP/FEIS have been sent to affected Federal, State, and Local Government agencies and to interested parties. Copies of the PRMP/FEIS are available for public inspection at the Bureau of Land Management, Farmington Field Office, 1235 La Plata Highway, Farmington, New Mexico 87401. Interested persons may also review the PRMP/FEIS on the Internet at http://www.nm.blm.gov.

SUPPLEMENTARY INFORMATION: The PRMP/FEIS pertains to public lands in the FFO area, except where a small portion of the San Juan Oil and Gas Basin lies within the administrative boundary of the AFO. The PRMP/FEIS fulfills the requirements of the Federal Land Policy and Management Act and the National Environmental Policy Act. The preferred alternative from the Draft RMP was carried forward in the FEIS as the proposed RMP and focuses on the comprehensive management of the public lands and the resolution of five key issues, identified during the planning process. The five major issues are: (1) Oil and gas leasing and development; (2) landownership adjustments; (3) specially designated areas; (4) off-highway vehicle (OHV) use; and (5) coal leasing suitability assessment.

Specific to Each Issue the Proposed RMP Would

1. Continue to make lands available for oil and gas development. The FEIS documents the analysis of approximately 9,942 new oil and gas wells on public lands over the next 20 years for the PRMP.

2. Make available a total of 340,118 acres of public lands for disposal while another 178,237 acres are identified for possible acquisition.

3. Place a total of 649,901 acres in Specially Designated Areas (Research Natural Areas, Areas of Critical Environmental Concern, Wilderness Areas, Recreation, Paleontological, and Wildlife Areas). The PRMP includes removal of the Areas of Critical Environmental Concern (ACECs) designated on four areas totaling 2,765 acres because the designation is no longer necessary (three are within a Wilderness Area, and one was for a plant species that is more widely spread than previously known), designating 14 new ACECs totaling 16,884 acres, and changing the size or use limitations of 42 existing ACECs.

4. Place in the Limited OHV use category 1,353,301 acres of public lands until OHV activity plans are prepared. A total of 57,369 acres would remain closed to OHV use. Within the limited category, 5,806 acres have the potential to be placed in the open category pending the development of OHV activity plans.

5. Make approximately 378,275 acres of Federal minerals available for coal leasing. Comments on the Draft RMP/Draft EIS received from the public and internal BLM review comments were incorporated into the proposed plan. Public comments resulted in the addition of clarifying text, but did not significantly change proposed land use decisions.

Instructions for filing a protest with the Director of the BLM regarding the PRMP may be found at 43 CFR 1610.5. Any person who participated in the planning process and has an interest, which is or may be affected by the approval of the proposed Resource Management Plan, may protest such approval. A protest may raise only those issues that were submitted for the record during the planning process. Protests must be in writing and must be filed with the Director within 30 days from the date the Environmental Protection Agency publishes the Notice of Availability in the Federal Register. E-mail protests will not be accepted. Faxed protests will be considered as potential valid protests provided (1) that the signed faxed letter is received by the Washington Office protest coordinator by the closing date of the protest period and (2) that the protesting party also provides the original letter by either regular or overnight mail postmarked by the close of the protest period. Please direct faxed protests to “BLM Protest Coordinator” at (202) 452-5112. Please direct the follow-up letter to the appropriate address provided below. The protest must contain:

i. The name, mailing address, telephone number, and interest of the person filing the protest;

ii. A statement of the issue or issues being protested;

iii. A statement of the part or parts of the plan or amendment being protested;

iv. A copy of all documents addressing the issue or issues that were submitted during the planning process by the protesting party or an indication of the date the issue or issues were discussed for the record; and

v. A concise statement explaining why the State Director's decision is believed to be wrong.

The Director will promptly render a decision on the protest. The decision will be in writing and will be sent to the protesting party by certified mail, return receipt requested. The decision of the Director shall be the final decision of the Department of the Interior. File written protest by Surface mail: U.S. Department of the Interior, Bureau of Land Management, Director (210), Attn: Brenda Williams, PO Box 66538, Washington, DC 20035 or Overnight mail: U.S. Department of the Interior, Bureau of Land Management, Director (210), Attn: Brenda Williams, 1620 L Street, NW., Suite 1075, Washington, DC 20036.

Dated: February 11, 2003.
Linda S.C. Rundell,
New Mexico State Director.

[FR Doc. 03-5895 Filed 4-3-03; 8:45 am]

BILLING CODE 4310-FB-P